LIBRARY OF CONGRESS

United States Copyright Office

Notice of Roundtable on the World Intellectual Property Organization (WIPO) Treaty On the Protection of the Rights of Broadcasting Organizations

AGENCY: United States Copyright Office, Library of Congress.

ACTION: Notice Announcing Public Forum.

SUMMARY: The United States Copyright Office (USCO) and the United States Patent and Trademark Office (USPTO) announce a public roundtable discussion concerning the work at the World Intellectual Property Organization (WIPO) in the Standing Committee on Copyright and Related Rights (SCCR) on a proposed Treaty on the Protection of the Rights of Broadcasting Organizations. Members of the public are invited to attend the roundtable, or to participate in the roundtable discussion, on the topics outlined in the supplementary information section of this notice.

DATES: The roundtable will be held on Wednesday, January 3, 2007 beginning at 1 p.m. and ending at 3 p.m. Requests to participate in the roundtable should be submitted no later than 5 p.m. on December 29, 2006.

ADDRESSES: The roundtable will be held in the Atrium Conference Room at the USPTO, 600 Dulany Street, Madison West, 10th floor, Alexandria, VA 22313.

Persons wishing to participate in the roundtable are required to submit requests to participate, preferably by electronic mail through the Internet to sking@loc.gov. Alternatively, you may submit requests by facsimile at 202-707-8366 or via regular mail to: U.S. Copyright Office, Copyright GC/I&R, P.O. Box 70400, Southwest Station,Washington, DC 20024, marked to the attention of Simone King. Please be aware that delivery of mail (U.S. Postal Service and private carrier) sent to the U.S. Copyright Office is subject to delay. Therefore, it is strongly suggested that any request to participate be made via e-mail or fax.

Requests for participation as a member of the roundtable must indicate the following information:

1. The name of the person desiring to participate;

2. The organization or organizations represented by that person, if any;

3. Contact information (address, telephone, and e-mail);

4. Information on the specific focus or interest of the participant (or his or her organization) and any questions or issues the participant would like to raise.

The deadline for receipt of requests to participate in the roundtable is 5:00 p.m. on December 29, 2006. Due to space limitations, attendance is limited to the first 40 respondents.

FOR FURTHER INFORMATION CONTACT: Simone King by telephone at 202-707-5516, by facsimile at 202-707-8366, by electronic mail at sking@loc.gov, or by mail addressed to the U.S. Copyright Office, Copyright GC/I&R, P.O. Box 70400, Southwest Station, Washington, DC 20024, marked to the attention of Simone King.

SUPPLEMENTARY INFORMATION:

Background:

For the past eight years and since the first meeting of the Standing Committee on Copyright and Related Rights (SCCR) in November 1998, WIPO has been addressing the topic of updating the protection of the rights of broadcasting organizations. Although broadcasters’ rights are protected under some existing international agreements, such as under the 1961 Convention for the Protection of Performers, Producers of Phonograms and Broadcasting Organizations and the World Trade Organization’s Agreement on Trade-Related Aspects of Intellectual Property Rights, there has been increasing concern that changes in technology and the opening up of much of the world to commercial broadcasting have made the protection provided in those agreements ineffective to protect broadcast signals against piracy.

At the September 2006 WIPO General Assembly, the decision was taken to convene two special sessions of the SCCR to clarify the outstanding issues, the first one in January 2007, and the second one in June 2007, to be held in conjunction with the meeting of the preparatory committee. It is understood that the special sessions of the SCCR should aim to agree and finalize, on a signal-based approach, the objectives, specific scope and object of protection with a view to submitting to the Diplomatic Conference a revised basic proposal, which will amend the agreed relevant parts of the Revised Draft Basic Proposal (Document SCCR/15/2). The Diplomatic Conference will be convened in November 2007 if such agreement is achieved. If no such agreement is achieved, all further discussions will be based on Document SCCR/15/2. The first special session of the SCCR will be held from January 17 to 19, 2007.

WIPO posts various documents from their meetings, such as reports, member state submissions, meeting agendas, and texts prepared by the Chair of the SCCR. The most recent text available from July 31, 2006 — the Revised Draft Basic Proposal (Document SCCR/15/2) -- can be found at www.wipo.int/meetings/en/doc_details.jsp?doc_id=64712. WIPO has not yet made available a draft report from the 2006 General Assemblies, but preparatory documents for the Assemblies are available at www.wipo.int/meetings/en/details.jsp?meeting_id=11023.

Throughout this process in WIPO, many points of view have been represented, including those of developed and developing countries, and many non-governmental organizations (NGOs), and numerous industry, creator and content owner groups. The USPTO and USCO have participated in several informal and formal meetings with interested parties such as broadcasters, netcasters, telecom companies, Internet service providers, content industries, creators and other NGOs, in order to obtain views and information relevant to the deliberations in the SCCR on this proposed treaty.

In order to allow further opportunity for interested parties to comment, USPTO and USCO are convening this roundtable to provide another forum for such parties to provide their views of and additional information related to the proposed treaty. In particular, the participants should be prepared to identify and discuss more fully the issues and problems associated with the Revised Draft Basic Proposal (Document SCCR/15/2).

Dated: December 7, 2006
David O. Carson,
General Counsel.

[FR Doc. E6-21130 Filed 12-11-06; 8:45 am]

BILLING CODE 1410-30-S